DEPARTMENT OF COMMERCE

National Oceanic and Atmospheric Administration

50 CFR Part 660

[Docket No. 051213334-5334-01; I.D. 112905C]

RIN 0648-AT98

Magnuson-Stevens Act Provisions; Fisheries Off West Coast States and in the Western Pacific; Pacific Coast Groundfish Fishery; Correction

AGENCY: National Marine Fisheries Service (NMFS), National Oceanic and Atmospheric Administration (NOAA), Commerce.

ACTION: Proposed rule; correction.

SUMMARY: On January 12, 2006, a proposed rule to implement Amendment 19 to the Pacific Coast Groundfish Fishery Management Plan (FMP) was published in the Federal Register. The proposed rule was published with an incorrect RIN. Also, this proposed rule contained a number of errors in the Prohibition section and the different lists of coordinates. This document corrects those errors.

DATES: Effective January 30, 2006.

FOR FURTHER INFORMATION CONTACT: Steve Copps (Northwest Region, NMFS) 206-526-6150.

SUPPLEMENTARY INFORMATION: On January 12, 2006, (71 FR 1998) a proposed rule was published that would implement Amendment 19 to the FMP. The proposed rule was published with an incorrect RIN. Also, there is an incorrect section number in two places in the Prohibition section and in a number of places in the proposed rule, some of the coordinates and the numbering of these coordinates were published incorrectly.

Correction

In the proposed rule FR DOC, in the issue of Thursday, January 12, 2006 (71 FR 1998) make the following corrections:

1. On page 1998, in column 2, the RIN is corrected to read 0648-AT98.

2. On page 2005, in column 1, § 660.306 should be corrected to read as follows:

§ 660.36 Prohibitions.

* * * * *

(a) * * *

(13) Fish with dredge gear (defined in § 660.302) anywhere within the EEZ.

(14) Fish with beam trawl gear (defined in § 660.302) anywhere within the EEZ.

* * * * *

(h) * * *

(4) Fish with bottom trawl gear (defined in § 660.302) anywhere within the EEZ seaward of a line approximating the 700 fathom (1280 m) depth contour, as defined in § 660.395.

(5) Fish with bottom trawl gear (defined in § 660.302) with a footrope diameter greater than 19 inches (48 cm) (including rollers, bobbins or other material encircling or tied along the length of the footrope) anywhere within the EEZ.

(6) Fish with bottom trawl gear (defined in § 660.302) with a footrope diameter greater than 8 inches (20 cm) (including rollers, bobbins or other material encircling or tied along the length of the footrope) anywhere within the EEZ shoreward of a line approximating the 100-fm (183-m) depth contour (defined in § 660.393).

(7) Fish with bottom trawl gear (as defined in § 660.302), within the EEZ in the following areas (defined in § 660.395: Olympic 2, Biogenic 1, Biogenic 2, Grays Canyon, Biogenic 3, Nahelem Bank/Shale Pile, Astoria Canyon, Siletz Deepwater, Daisy Bank/Nelson Island, Newport Rockpile/Stonewall Bank, Heceta Bank, Deepwater off Coos Bay, Bandon High Spot, Rogue Canyon.

(8) Fish with bottom trawl gear (as defined in § 660.302), other than Danish or demersal seine, within the EEZ in the following areas (defined in § 660.395.): Eel River Canyon, Blunts Reef, Mendocino Ridge, Delgada Canyon, Tolo Bank, Point Arena North, Outer Cordell Bank, Pt. Arena South Biogenic Area, Farallon Islands/Fanny Shoal, Half Moon Bay, Monterey Bay/Canyon, Point Sur Deep, Big Sur Coast/Port San Luis, East Santa Lucia Bank, Point Conception, Potato Bank (with Cowcod Conservation Area West), Cherry Bank (within Cowcod Conservation Area West) Hidden Reef/Kidney Bank (within Cowcod Conservation Area West), Catalina Island and Cowcod Conservation Area East.

(9) Fish with botton contact gear (as defined in § 660.302) within the EEZ in the following areas (defined in § 660.395): Anacapa Island SMR, Anacapa Island SMCA, Carrington Point, Footprint, Gull Island, Harris Point, Judith Rock, Painted Cave, Richardson Rock, Santa Barbara, Scorpion, Skunk Point, and South Point, Thompson Seamount, President Jackson Seamount, (50 fm (91 m) isobath).

(10) Fish with bottom contact gear (as defined in § 660.302), or any other gear that is deployed deeper than 500 fm (914 m), within the Davidson Seamount area (defined in § 660.395).

* * * * *

3. Beginning on page 2005, in column 2, in § 660.395, the introductory text, and paragraphs (a), (c), (k), (w), (y), (z), (aa), (jj), (kk), and (nn) are corrected to read as follows:

§ 660.395 Groundfish Essential Fish Habitat (EFH) conservation areas.

Essential fish habitat (EFH) is defined as those waters and substrate necessary to fish for spawning, breeding, feeding or growth to maturity (16 U.S.C. 1802 (10)). The areas in this subsection are designated to minimize to the extent practicable adverse effects to EFH caused by fishing (16 U.S.C. 1853 section 303(a)(7)). Straight lines connecting a series of latitude/longitude coordinates demarcate the boundaries for areas desingated as Groundfish EFH Conservation Areas. Coordinates outlining the boundaries of Groundfish EFH Conservation Areas are provided in § 660.395. Fishing activity that is prohibited or permitted within the EEZ in a particular area designated as a groundfish EFH Conservation Area is detailed at § 660.306 and § 660.385.

(a) Seaward of the 700-fm (1280-m) contour. This area includes all waters within the West Coast EEZ west of a line approximating the 700-fm (1280-m) depth contour and is defined by straight lines connecting all of the following points in the order stated:

(1) 48°06.97′ N. lat., 126°02.96′ W. long.;

(2) 48°00.44′ N. lat., 125°54.96′ W. long.;

(3) 47°55.96′ N. lat., 125°46.51′ W. long.;

(4) 47°47.21′ N. lat., 125°43.73′ W. long.;

(5) 47°42.89′ N. lat., 125°49.58′ W. long.;

(6) 47°38.18′ N. lat., 125°37.26′ W. long.;

(7) 47°32.36′ N. lat., 125°32.87′ W. long.;

(8) 47°29.77′ N. lat., 125°26.27′ W. long.;

(9) 47°28.54′ N. lat., 125°18.82′ W. long.;

(10) 47°19.25′ N. lat., 125°17.18′ W. long.;

(11) 47°08.82′ N. lat., 125°10.01′ W. long.;

(12) 47°04.69′ N. lat., 125°03.77′ W. long.;

(13) 46°48.38′ N. lat., 125°18.43′ W. long.;

(14) 46°41.92′ N. lat., 125°17.29′ W. long.;

(15) 46°27.49′ N. lat., 124°54.36′ W. long.;

(16) 46°14.13′ N. lat., 125°02.72′ W. long.;

(17) 46°09.53′ N. lat., 125°04.75′ W. long.;

(18) 45°46.64′ N. lat., 124°54.44′ W. long.;

(19) 45°40.86′ N. lat., 124°55.62′ W. long.;

(20) 45°36.50′ N. lat., 124°51.91′ W. long.;

(21) 44°55.69′ N. lat., 125°08.35′ W. long.;

(22) 44°49.93′ N. lat., 125°01.51′ W. long.;

(23) 44°46.93′ N. lat., 125°02.83′ W. long.;

(24) 44°41.96′ N. lat., 125°10.64′ W. long.;

(25) 44°28.31′ N. lat., 125°11.42′ W. long.;

(26) 43°58.37′ N. lat., 125°02.93′ W. long.;

(27) 43°52.74′ N. lat., 125°05.58′ W. long.;

(28) 43°44.18′ N. lat., 124°57.17′ W. long.;

(29) 43°37.58′ N. lat., 125°07.70′ W. long.;

(30) 43°15.95′ N. lat., 125°07.84′ W. long.;

(31) 42°47.50′ N. lat., 124°59.96′ W. long.;

(32) 42°39.02′ N. lat., 125°01.07′ W. long.;

(33) 42°34.80′ N. lat., 125°02.89′ W. long.;

(34) 42°34.11′ N. lat., 124°55.62′ W. long.;

(35) 42°23.81′ N. lat., 124°52.85′ W. long.;

(36) 42°16.80′ N. lat., 125°00.20′ W. long.;

(37) 42°06.60′ N. lat., 124°59.14′ W. long.;

(38) 41°59.28′ N. lat., 125°06.23′ W. long.;

(39) 41°31.10′ N. lat., 125°01.30′ W. long.;

(40) 41°14.52′ N. lat., 124°52.67′ W. long.;

(41) 40°40.65′ N. lat., 124°45.69′ W. long.;

(42) 40°35.05′ N. lat., 124°45.65′ W. long.;

(43) 40°23.81′ N. lat., 124°41.16′ W. long.;

(44) 40°20.54′ N. lat., 124°36.36′ W. long.;

(45) 40°20.84′ N. lat., 124°57.23′ W. long.;

(46) 40°18.54′ N. lat., 125°09.47′ W. long.;

(47) 40°14.54′ N. lat., 125°09.83′ W. long.;

(48) 40°11.79′ N. lat., 125°07.39′ W. long.;

(49) 40°06.72′ N. lat., 125°04.28′ W. long.;

(50) 39°50.77′ N. lat., 124°37.54′ W. long.;

(51) 39°56.67′ N. lat., 124°26.58′ W. long.;

(52) 39°44.25′ N. lat., 124°12.60′ W. long.;

(53) 39°35.82′ N. lat., 124°12.02′ W. long.;

(54) 39°24.54′ N. lat., 124°16.01′ W. long.;

(55) 39°01.97′ N. lat., 124°11.20′ W. long.;

(56) 38°33.48′ N. lat., 123°48.21′ W. long.;

(57) 38°14.49′ N. lat., 123°38.89′ W. long.;

(58) 37°56.97′ N. lat., 123°31.65′ W. long.;

(59) 37°49.09′ N. lat., 123°27.98′ W. long.;

(60) 37°40.29′ N. lat., 123°12.83′ W. long.;

(61) 37°22.54′ N. lat., 123°14.65′ W. long.;

(62) 37°05.98′ N. lat., 123°05.31′ W. long.;

(63) 36°59.02′ N. lat., 122°50.92′ W. long.;

(64) 36°50.32′ N. lat., 122°17.44′ W. long.;

(65) 36°44.54′ N. lat., 122°19.42′ W. long.;

(66) 36°40.76′ N. lat., 122°17.28′ W. long.;

(67) 36°39.88′ N. lat., 122°09.69′ W. long.;

(68) 36°44.52′ N. lat., 122°07.13′ W. long.;

(69) 36°42.26′ N. lat., 122°03.54′ W. long.;

(70) 36°30.02′ N. lat., 122°09.85′ W. long.;

(71) 36°22.33′ N. lat., 122°22.99′ W. long.;

(72) 36°14.36′ N. lat., 122°21.19′ W. long.;

(73) 36°09.50′ N. lat., 122°14.25′ W. long.;

(74) 35°51.50′ N. lat., 121°55.92′ W. long.;

(75) 35°49.53′ N. lat., 122°13.00′ W. long.;

(76) 34°58.30′ N. lat., 121°36.76′ W. long.;

(77) 34°53.13′ N. lat., 121°37.49′ W. long.;

(78) 34°46.54′ N. lat., 121°46.25′ W. long.;

(79) 34°37.81′ N. lat., 121°35.72′ W. long.;

(80) 34°37.72′ N. lat., 121°27.35′ W. long.;

(81) 34°26.77′ N. lat., 121°07.58′ W. long.;

(82) 34°18.54′ N. lat., 121°05.01′ W. long.;

(83) 34°02.68′ N. lat., 120°54.30′ W. long.;

(84) 33°48.11′ N. lat., 120°25.46′ W. long.;

(85) 33°42.54′ N. lat., 120°38.24′ W. long.;

(86) 33°46.26′ N. lat., 120°43.64′ W. long.;

(87) 33°40.71′ N. lat., 120°51.29′ W. long.;

(88) 33°33.14′ N. lat., 120°40.25′ W. long.;

(89) 32°51.57′ N. lat., 120°23.35′ W. long.;

(90) 34°38.54′ N. lat., 120°09.54′ W. long.;

(91) 32°35.76′ N. lat., 119°53.43′ W. long.;

(92) 32°29.54′ N. lat., 119°46.00′ W. long.;

(93) 32°25.99′ N. lat., 119°41.16′ W. long.;

(94) 32°30.46′ N. lat., 119°33.15′ W. long.;

(95) 32°23.47′ N. lat., 119°25.71′ W. long.;

(96) 32°19.19′ N. lat., 119°13.96′ W. long.;

(97) 32°13.18′ N. lat., 119°04.44′ W. long.;

(98) 32°13.40′ N. lat., 118°51.87′ W. long.;

(99) 32°19.62′ N. lat., 118°47.80′ W. long.;

(100) 32°27.26′ N. lat., 118°50.29′ W. long.;

(101) 32°28.42′ N. lat., 118°53.15′ W. long.;

(102) 32°31.30′ N. lat., 118°55.09′ W. long.;

(103) 32°33.04′ N. lat., 118°53.57′ W. long.;

(104) 32°19.07′ N. lat., 118°27.54′ W. long.;

(105) 32°18.57′ N. lat., 118°18.97′ W. long.;

(106) 32°09.01′ N. lat., 118°13.96′ W. long.;

(107) 32°06.57′ N. lat., 118°18.78′ W. long.;

(108) 32°01.32′ N. lat., 118°18.21′ W. long.; and

(109) 31°57.82′ N. lat., 118°10.34′ W. long.;

* * * * *

(c) Daisy Bank/Nelson Island. Daisy Bank/Nelson Island is defined by straight lines connecting all of the following points in the order stated:

(1) 44°39.73′ N. lat., 124°41.43′ W. long.;

(2) 44°39.60′ N. lat., 124°41.29′ W. long.;

(3) 44°37.17′ N. lat., 124°38.60′ W. long.;

(4) 44°35.55′ N. lat., 124°39.27′ W. long.;

(5) 44°37.57′ N. lat., 124°41.70′ W. long.;

(6) 44°36.90′ N. lat., 124°42.91′ W. long.;

(7) 44°38.25′ N. lat., 124°46.28′ W. long.;

(8) 44°38.52′ N. lat., 124°49.11′ W. long.;

(9) 44°40.27′ N. lat., 124°49.11′ W. long.;

(10) 44°41.35′ N lat., 124°48.03′ W. long.; and connecting back to 44°39.73′ N. lat., 124°41.43′ W. long.

* * * * *

(k) Grays Canyon. Grays Canyon is defined by straight lines connecting all of the following points in the order stated:

(1) 46°51.55′ N. lat., 125°00.00′ W. long.;

(2) 46°56.79′ N. lat., 125°00.00′ W. long.;

(3) 46°58.01′ N. lat., 124°55.09′ W. long.;

(4) 46°55.07′ N. lat., 124°54.14′ W. long.;

(5) 46°59.60′ N. lat., 124°49.79′ W. long.;

(6) 46°58.72′ N. lat., 124°48.78′ W. long.;

(7) 46°54.45′ N. lat., 124°48.36′ W. long.;

(8) 46°53.99′ N. lat., 124°49.95′ W. long.;

(9) 46°54.38′ N. lat., 124°52.73′ W. long.;

(10) 46°52.38′ N. lat., 124°52.02′ W. long.;

(11) 46°48.93′ N. lat., 124°49.17′ W. long.; and connecting back to 46°51.55′ N. lat., 125°00.00′ W. long.

* * * * *

(w) Heceta Bank. Heceta Bank is defined by straight lines connecting all of the following points in the order stated:

(1) 43°57.68′ N. lat., 124°55.48′ W. long.;

(2) 44°00.14′ N. lat., 124°55.25′ W. long.;

(3) 44°02.88′ N. lat., 124°53.96′ W. long.;

(4) 44°13.47′ N. lat., 124°54.08′ W. long.;

(5) 44°20.30′ N. lat., 124°38.72′ W. long.;

(6) 44°13.52′ N. lat., 124°40.45′ W. long.;

(7) 44°09.00′ N. lat., 124°45.30′ W. long.;

(8) 44°03.46′ N. lat., 124°45.71′ W. long.;

(9) 44°03.26′ N. lat., 124°49.42′ W. long.;

(10) 43°58.61′ N. lat., 124°49.87′ W. long.; and connecting back to 43°57.68′ N. lat., 124°55.48′ W. long.

* * * * *

(y) Deepwater off Coos Bay. Deepwater off Coos Bay is defined by straight lines connecting all of the following points in the order stated:

(1) 43°29.32′ N. lat., 125°20.11′ W. long.;

(2) 43°38.96′ N. lat., 125°18.75′ W. long.;

(3) 43°37.88′ N. lat., 125°08.26′ W. long.;

(4) 43°36.58′ N. lat., 125°06.56′ W. long.;

(5) 43°33.04′ N. lat., 125°08.41′ W. long.;

(6) 43°27.74′ N. lat., 125°07.25′ W. long.;

(7) 43°15.95′ N. lat., 125°07.84′ W. long.;

(8) 43°15.38′ N. lat., 125°10.47′ W. long.;

(9) 43°25.73′ N. lat., 125°19.36′ W. long.; and connecting back to 43°29.32′ N. lat., 125°20.11′ W. long.

(z) Siletz Deepwater. Siletz Deepwater is defined by straight lines connecting all of the following points in the order stated:

(1) 44°42.72′ N. lat., 125°18.49′ W. long.;

(2) 44°56.26′ N. lat., 125°12.61′ W. long.;

(3) 44°56.34′ N. lat., 125°09.13′ W. long.;

(4) 44°49.93′ N. lat., 125°01.51′ W. long.;

(5) 44°46.93′ N. lat., 125°02.83′ W. long.;

(6) 44°41.96′ N. lat., 125°10.64′ W. long.;

(7) 44°33.36′ N. lat., 125°08.82′ W. long.;

(8) 44°33.38′ N. lat., 125°17.08′ W. long.; and connecting back to 44°42.72′ N. lat., 125°18.49′ W. long.

(aa) Essential fish habitat (EFH) is defined as those waters and substrate necessary to fish for spawning, breeding, feeding or growth to maturity. The areas in this subsection are designated to minimize adverse effects to EFH caused by fishing to the extent practicable. Straight lines connecting a series of latitude/longitude coordinates demarcate the boundaries for areas designated as Goundfish EFH Conservation Areas. Coordinates outlining the boundaries of Groundfish EFH Conservation Areas are provided in § 660.395. Fishing activity that is prohibited or permitted within the EEZ in a particular area designated as a Groundfish EFH Conservation Area is detailed at § 660.306 and § 660.385.

* * * * *

(jj) Catalina Island. Catalina Island is defined by straight lines connecting all of the following points in the order stated:

(1) 33°34.71′ N. lat., 118°11.40′ W. long.;

(2) 33°25.88′ N. lat., 118°03.76′ W. long.;

(3) 33°11.69′ N. lat., 118°09.21′ W. long.;

(4) 33°19.73′ N. lat., 118°35.41′ W. long.;

(5) 33°23.90′ N. lat., 118°35.11′ W. long.;

(6) 33°25.68′ N. lat., 118°41.66′ W. long.;

(7) 33°30.25′ N. lat., 118°42.25′ W. long.;

(8) 33°32.73′ N. lat., 118°38.38′ W. long.;

(9) 33°27.07′ N. lat., 118°20.33′ W. long.;and connecting back to 33°34.71′ N. lat., 118°11.40′ W. long.

(kk) Monterey Bay/Canyon. Monterey Bay/Canyon is defined by straight lines connecting all of the following points in the order stated:

(1) 36°38.21′ N. lat., 121°55.96′ W. long.;

(2) 36°25.31′ N. lat., 121°54.86′ W. long.;

(3) 36°25.25′ N. lat., 121°58.34′ W. long.;

(4) 36°30.86′ N. lat., 122°00.45′ W. long.;

(5) 36°30.02′ N. lat., 122°09.85′ W. long.;

(6) 36°30.23′ N. lat., 122°36.82′ W. long.;

(7) 36°55.08′ N. lat., 122°36.46′ W. long.;

(8) 36°51.41′ N. lat., 122°14.14′ W. long.;

(9) 36°49.37′ N. lat., 122°15.20′ W. long.;

(10) 36°48.31′ N. lat., 122°18.59′ W. long.;

(11) 36°45.55′ N. lat., 122°18.91′ W. long.;

(12) 36°40.76′ N. lat., 122°17.28′ W. long.;

(13) 36°39.88′ N. lat., 122°09.69′ W. long.;

(14) 36°44.94′ N. lat., 122°08.46′ W. long.;

(15) 36°47.37′ N. lat., 122°03.16′ W. long.;

(16) 36°49.60′ N. lat., 122°00.85′ W. long.;

(17) 36°51.53′ N. lat., 122°58.25′ W. long.;

(18) 36°50.78′ N. lat., 121°56.89′ W. long.;

(19) 36°47.39′ N. lat., 121°58.16′ W. long.;

(20) 36°48.34′ N. lat., 121°50.95′ W. long.;

(21) 36°47.23′ N. lat., 121°52.25′ W. long.;

(22) 36°45.60′ N. lat., 121°54.17′ W. long.;

(23) 36°44.76′ N. lat., 121°56.04′ W. long.;

(24) 36°41.68′ N. lat., 121°56.33′ W. long.; and connecting back to 36°38.21′ N. lat., 121°55.96′ W. long.

* * * * *

(nn) Mendocino Ridge. Mendocino Ridge is defined by straight lines connecting all of the following points in the order stated:

(1) 40°25.23′ N. lat., 124°24.06′ W. long.;

(2) 40°12.50′ N. lat., 124°22.59′ W. long.;

(3) 40°14.40′ N. lat., 124°35.82′ W. long.;

(4) 40°16.16′ N. lat., 124°39.01′ W. long.;

(5) 40°17.47′ N. lat., 124°40.77′ W. long.;

(6) 40°19.26′ N. lat., 124°47.97′ W. long.;

(7) 40°19.98′ N. lat., 124°52.73′ W. long.;

(8) 40°20.06′ N. lat., 125°02.18′ W. long.;

(9) 40°11.79′ N. lat., 125°07.39′ W. long.;

(10) 40°12.55′ N. lat., 125°11.56′ W. long.;

(11) 40°12.81′ N. lat., 125°12.98′ W. long.;

(12) 40°20.72′ N. lat., 125°57.31′ W. long.;

(13) 40°23.96′ N. lat., 125°56.83′ W. long.;

(14) 40°24.04′ N. lat., 125°56.82′ W. long.;

(15) 40°25.68′ N. lat., 125°09.77′ W. long.;

(16) 40°21.03′ N. lat., 124°33.96′ W. long.;

(17) 40°25.72′ N. lat., 124°34.15′ W. long.; and connecting back to 40°25.23′ N. lat., 124°24.06′ W. long.;

* * * * *

Dated: January 20, 2006.
John Oliver,
Deputy Assistant Administrator for Operations, National Marine Fisheries Service.

[FR Doc. 06-843 Filed 1-27-06; 8:45 am]

BILLING CODE 3510-22-M